Proclamation 10039 of May 21, 2020

Honoring the Victims of the Novel Coronavirus Pandemic

By the President of the United States of America

A Proclamation

Our Nation mourns for every life lost to the coronavirus pandemic, and we share in the suffering of all those who endured pain and illness from the outbreak. Through our grief, America stands steadfast and united against the invisible enemy. May God be with the victims of this pandemic and bring aid and comfort to their families and friends. As a mark of solemn respect for the victims of the coronavirus pandemic, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions until sunset, May 24, 2020. I also direct that the flag shall be flown at half-staff for the same length of time at all United States embassies, legations, consular offices, and other facilities abroad, including all military facilities and naval vessels and stations.

IN WITNESS WHEREOF, I have hereunto set my hand this twenty-first day of May, in the year of our Lord two thousand twenty, and of the Independence of the United States of America the two hundred forty-fourth.

[FR Doc. 2020-11539

Filed 5-26-20; 11:15 am]

Billing code 3295-F0-P